ENVIRONMENTAL PROTECTION AGENCY

[FRL-10008-25-OW]

Notice of Charter Renewal

AGENCY: Environmental Protection Agency (EPA).

ACTION: Notice.

SUMMARY: The Charter for the United States Environmental Protection Agency's (EPA) Environmental Financial Advisory Board (EFAB) will be renewed for an additional two-year period, as a necessary committee which is in the public interest, in accordance with the provisions of the Federal Advisory Committee Act (FACA). The purpose of the EFAB is to provide advice and recommendations to the EPA Administrator on issues associated with environmental financing. It is determined that the EFAB is in the public interest in connection with the performance of duties imposed on the Agency by law. Inquiries may be directed to Stephanie Sanzone, Water Infrastructure and Resiliency Finance Center, U.S. EPA, 1200 Pennsylvania Avenue NW, Washington, DC 20460 (Mail Code: 4204M), Telephone (202) 564-2839, or sanzone.stephanie@epa.gov.

Dated: April 9, 2020.
Andrew D. Sawyers,
Director, Office of Wastewater Management.

[FR Doc. 2020-08242 Filed 4-17-20; 8:45 am]

BILLING CODE 6560-50-P